NUCLEAR REGULATORY COMMISSION

10 CFR Part 50

[Docket No. PRM-50-72]

Union of Concerned Scientists; Petition for Rulemaking

AGENCY: Nuclear Regulatory Commission.

ACTION: Petition for rulemaking; Notice of receipt.

SUMMARY: The Nuclear Regulatory Commission (NRC) has received and requests public comment on a petition for rulemaking filed by David Lochbaum of the Union of Concerned Scientists. The petition, docketed on December 13, 2000, has been assigned Docket No. PRM-50-72. The petitioner requests that the NRC revise its regulations to require nuclear power plant owners to submit the performance indicator information needed for the NRC's revised reactor oversight program.

DATES: Submit comments by May 21, 2001. Comments received after this date will be considered if it is practical to do so, but the Commission is able to assure consideration only for comments received on or before this date.

ADDRESSES: Mail comments to: Secretary, U.S. Nuclear Regulatory Commission, Washington, DC 20555-0001, Attention: Rulemakings and Adjudications Staff.

Deliver comments to: 11555 Rockville Pike, Rockville, Maryland between 7:30 a.m. and 4:15 p.m. on Federal workdays.

For a copy of the petition, write to Michael T. Lesar, Acting Chief, Rules and Directives Branch, Division of Administrative Services, Office of Administration, U. S. Nuclear Regulatory Commission, Washington, DC 20555-0001.

You may also provide comments via the NRC's interactive rulemaking website at http://ruleforum.llnl.gov. This site allows you to upload comments as files in any format, if your web browser supports the function. For information about the interactive rulemaking website, contact Carol Gallagher, (301) 415-5905 e-mail:cag@nrc.gov.

The petition and copies of comments received may be inspected, and copied for a fee, at the NRC Public Document Room, (first floor) 11555 Rockville Pike, Rockville, Maryland.

FOR FURTHER INFORMATION CONTACT: Michael T. Lesar, Acting Chief, Rules and Directives Branch, Division of Administrative Services, Office of Administration, U.S. Nuclear Regulatory Commission, Washington, DC 20555-0001, Telephone: 301-415-7163 or Toll Free: 1-800-368-5642 or e-mail:mtl@nrc.gov.

SUPPLEMENTARY INFORMATION:

Background

The Petitioner

The Union of Concerned Scientists (UCS) states that it was actively involved in the development of the reactor oversight program. UCS served on the Pilot Program Evaluation Panel formally established by the NRC to independently assess the trial implementation of the reactor oversight program at eight nuclear plant sites in 1999. UCS presented its views on the reactor oversight process to the NRC Chairman and Commissioners during a public meeting. UCS presented the criticism that the public perceives that the NRC allows the nuclear industry to regulate itself through the collection and voluntary submittal of performance indicator information. UCS recommended that: “the NRC must appear more authoritative to gain the confidence of the public. The NRC should obtain an irrevocable commitment from all plant owners to participate in the revised reactor oversight process before industry-wide implementation.”

The petitioner asserts that no commitment has been obtained by the NRC, and that despite the importance of the performance indicators in the reactor oversight program and the fact that the NRC's revised inspection program, by itself, cannot provide a complete evaluation of safety levels, nuclear plant owners are not required to submit the performance indicator information to the NRC.

Discussion

The petitioner states that on March 28, 2000, the NRC approved the implementation of a revised reactor oversight program ¹ at all operating nuclear power plants, except DC Cook. The petitioner states that, according to the NRC, the revised oversight process calls for—

¹ Nuclear Regulatory Commission, “Staff Requirements Memorandum SRM-00-0049, Staff Requirements—SECY-00-0049—Results of the Revised Reactor Oversight Process Pilot Program (Part 1),” March 28, 2000. Available on the internet at http://www.nrc.gov/NRC/COMMISSION/SRM/2000-0049srm.html).

1. Focusing inspections on activities where the potential risks are greater;

2. Applying greater regulatory attention to nuclear power plants with performance problems, while maintaining a normal level of regulatory attention on facilities that perform well;

3. Using objective measurements of the performance of nuclear power plants;

4. Giving both the public and the nuclear industry timely and understandable assessments of plant performance;

5. Reducing unnecessary regulatory burden on nuclear facilities; and

6. Responding to violations of regulations in a predictable and consistent manner that reflects the potential safety impact on the violations.

According to the petitioner, these objectives are to be achieved by a combination of objective performance indicators and by the NRC inspection program. The petitioner states that according to the NRC—

Performance indicators use objective data to monitor performance within each of the ‘cornerstone’ areas. The data which make up the performance indicators will be generated by the utilities and submitted to the NRC on a quarterly basis. Each performance indicator is measured against established thresholds which are related to their effect on safety. While performance indicators can provide insights into plant performance for selected areas, the NRC's inspection program provides a greater depth and breadth of information for consideration by the NRC in assessing plant performance.

The petitioner states that the NRC supplements the insights from the performance indicators with the baseline inspection program. The baseline inspection program covers three parts:

(1) Inspection of areas not covered by performance indicators or where a performance indicator does not fully cover the inspection area;

(2) Inspections to verify the accuracy of a licensee's reports on performance indicators; and

(3) A thorough review of the utility's effectiveness in finding and resolving problems on its own.

Under the new reactor oversight process, the petitioner also notes that the NRC revised the procedures used by its inspectors. The revised procedures define how often areas must be inspected, i.e. certain areas must be inspected four times a year while other areas need only be inspected once every three years. The petitioner states that the scope of the inspection program is directly affected by the availability of the performance indicators. Therefore, the petitioner asserts that the NRC inspection program is not a fully redundant backup to the performance indicators, and that both the inspection program results and the performance indicators must be available to get a full picture of nuclear plant safety levels. The petitioner states that if the performance indicator information is not available, the NRC cannot get an accurate assessment of plant safety levels.

The petitioner further states that the performance indicators and the results from the baseline inspection programs are used by the NRC to evaluate safety levels at each nuclear plant and to identify areas for future inspections. The petitioner provided the following detail:

Each calendar quarter, the resident inspectors and the staff in the regional office will review the performance of all nuclear power plants in that region, as measured by the performance indicators and by inspection findings. Every six months, this review will be expanded to include planning of inspections for the following 12-month period.

Each year, the final quarterly review will involve a more detailed assessment of plant performance over the previous 12 months and preparation of a performance report, as well as the inspection plan for the following year. This review will include NRC headquarters staff members, the regional staff, and the resident inspectors.

These annual performance reports will be available to the public on the agency's web site, and the NRC staff will hold public meetings with utilities to discuss the previous year's performance at each plant.

The Petitioner's Requested Amendment

The petitioner requests that the NRC revise its regulations to require nuclear reactor licensees to submit the performance indicator information. In support of the requested amendment, the petitioner included NRC's stated objectives for its mission as follows: (1) Maintaining safety, (2) enhancing public confidence, (3) improving the effectiveness and efficiency of NRC processes, and (4) reducing unnecessary regulatory burden. The petitioner believes that the requested amendment satisfies all four objectives of the NRC's mission and offers the summary below to support this conclusion.

Maintaining Safety—The petitioner states that the NRC's new assessment program (reactor oversight program) is substantially different from the previous process. It makes greater use of objective performance indicators. Together, the indicators and inspection findings provide the information needed to support reviews of plant performance, to be conducted on a quarterly basis, with the results posted on the NRC's Internet site.

The petitioner believes that performance indicators are an essential element of the reactor oversight program and that their omission would degrade the ability of the reactor oversight program to assess nuclear plant performance levels. According to the petitioner, the current NRC staff may be able to compensate for missing performance indicators from one or two nuclear plants by conducting additional inspections. Also, the petitioner states that NRC inspectors could be expected to revert to broader inspection procedures that they used as recently as last spring. However, the petitioner states that as time passes and familiarity with the old ways fades, that capability also diminishes. In addition, the petitioner asserts that it is uncertain that the NRC staff has, or will continue to have, sufficient inspection staff to compensate for the eventuality where an owner operating numerous reactors suddenly decides not to submit the performance indicator information for any plant. The petitioner believes that the suggested amendment would satisfy the objective of maintaining safety by ensuring that the NRC continues to receive the vital information that it needs to assess nuclear plant performance levels.

Enhancing Public Confidence—The petitioner believes that public confidence only can be enhanced by requiring plant owners to submit information that is needed for the NRC to conduct its oversight program. As an analogy, the petitioner offers that, just as the Internal Revenue Service does not rely on the voluntary submission of tax returns by American taxpayers, the NRC should not rely on voluntary submission of vital safety information by nuclear plant owners.

Improving the Effectiveness and Efficiency of NRC Processes—The petitioner indicates that the substantive changes made by the NRC within its reactor oversight program were predicated on the assumption that nuclear plant owners would submit the performance indicator information. For example, the NRC inspection program was scaled back to only confirmatory checks in areas covered by performance indicators. The petitioner believes that any effectiveness and efficiency gains realized from the reactor oversight program would be sacrificed if one or more plant owners opted not to submit performance indicator information and that NRC's effectiveness would be impaired by having to inspect what had been covered by the performance indicator.

Reducing Unnecessary Regulatory Burden—The petitioner states that all nuclear plant owners in the U.S. today must consider the submission of the performance indicator information as a necessary regulatory burden; otherwise they would not have participated in the voluntary program that has been in place since April 2000. The petitioner believes that if the performance indicator information showed that safety levels declined, that plant owners must not have the option of viewing the submission as an unnecessary regulatory burden to avoid NRC scrutiny of the problem areas. The petitioner states that by merely codifying current industry practice, no unnecessary regulatory burden is introduced.

Conclusion

The petitioner believes that the NRC must require performance indicator information from all nuclear power plant owners if the NRC is to meet its stated objectives of maintaining safety, enhancing public confidence, improving the effectiveness and efficiency of its processes, and reducing regulatory burden. The petitioner notes that the recent example of the vehicle tire safety issue emphasizes the need for definitive requirements for submission of safety information to Federal regulators. The petitioner states that Congressional hearings revealed that the tire company had information on potential safety problems that it delayed transmitting to the Federal regulator. The petitioner further states that the tire company was not aggressive in responding to requests by the Federal regulator for information. The petitioner concludes that the NRC must revise its regulations to prevent similar abuses.

Dated at Rockville, Maryland, this 27th day of February, 2001.
For the Nuclear Regulatory Commission.
Annette Vietti-Cook,
Secretary of the Commission.

[FR Doc. 01-5215 Filed 3-2-01; 8:45 am]

BILLING CODE 7590-01-P